DEPARTMENT OF LABOR

Agency Information Collection Activities; Submission for OMB Review; Comment Request; COVID-19 Recordkeeping and Reporting in Healthcare Standard

ACTION: Notice of availability; request for comments.

SUMMARY: The Department of Labor (DOL) is submitting this Occupational Safety & Health Administration (OSHA)-sponsored information collection request (ICR) to the Office of Management and Budget (OMB) for review and approval in accordance with the Paperwork Reduction Act of 1995 (PRA). Public comments on the ICR are invited.

DATES: The OMB will consider all written comments that the agency receives on or before April 16, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Nicole Bouchet by telephone at 202-693-0213, or by email at DOL_PRA_PUBLIC@dol.gov.

SUPPLEMENTARY INFORMATION: This collection of information contains collection of information requirements originally intended to assist both employers and employees in addressing the risk of occupational exposure to COVID-19. Specifically, OSHA found in 2021 that these requirements were necessary to address the grave danger to healthcare employees from transmission of the SARS-CoV-2 virus in the workplace, resulting in COVID-19. For additional substantive information about this ICR, see the related notice published in the Federal Register on October 9, 2024 (89 FR 81949).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

On February 5, 2025, OSHA announced that until further notice it was not enforcing the requirement to establish, maintain, and provide copies of a COVID-19 log under 29 CFR 1910.502(q)(2)(ii) and (q)(3)(ii)-(iv) or to report COVID-19 fatalities and hospitalizations under 29 CFR 1910.502(r). OSHA intends to initiate a rulemaking to remove all of Subpart U, including those requirements, from 29 CFR 1910. If OSHA removes subpart U the associated information collection request would become moot.

A rulemaking to remove subpart U will take time. To ensure full compliance with the technical requirements of the PRA during this interim period, DOL seeks PRA authorization for this information collection for three (3) years. DOL notes that this extension request does not indicate any intent by the agency to enforce any portion of subpart U. OMB authorization for an ICR cannot be for more than three (3) years without renewal. The DOL notes that information collection requirements submitted to the OMB for existing ICRs receive a month-to-month extension while they undergo review.

Agency: DOL-OSHA.

Title of Collection: COVID-19 Recordkeeping and Reporting in Healthcare Standard.

OMB Control Number: 1218-0277.

Affected Public: Private Sector—Businesses or other for-profits.

Total Estimated Number of Respondents: 78,571.

Total Estimated Number of Responses: 207,860.

Total Estimated Annual Time Burden: 23,714 hours.

Total Estimated Annual Other Costs Burden: $0.

(Authority: 44 U.S.C. 3507(a)(1)(D))

Nicole Bouchet,
Senior Paperwork Reduction Act Analyst.

[FR Doc. 2025-04261 Filed 3-14-25; 8:45 am]

BILLING CODE 4510-26-P